DEPARTMENT OF COMMERCE

National Oceanic and Atmospheric Administration

[RTID 0648-XE674]

Mid-Atlantic Fishery Management Council (MAFMC); Public Meeting

AGENCY: National Marine Fisheries Service (NMFS), National Oceanic and Atmospheric Administration (NOAA), Commerce.

ACTION: Notice of initiation of scoping process; notice of public scoping meetings; request for comments.

SUMMARY: The Mid-Atlantic Fishery Management Council (Council) and the Atlantic States Marine Fisheries Commission (Commission) will hold 5 joint public scoping hearing to solicit public comments on potential topics to be addressed by a Recreational Sector Separation and Data Collection Amendment to the Summer Flounder, Scup, and Black Sea Bass Fishery Management Plan (FMP) and the Bluefish FMP. The Council and Commission are also accepting written scoping comments through March 20, 2025.

DATES: The meetings will be held between February 25, 2025 and March 5, 2025. For specific dates and times, see SUPPLEMENTARY INFORMATION. Written public comments must be received on or before 11:59 p.m. EST, March 20, 2025.

ADDRESSES: Three of the meetings will be held by webinar only, and two meetings will be held in a hybrid format with in-person and webinar options. The two hybrid hearings with the option of in-person participation will take place in Narragansett, RI at 215 South Ferry Road, Narragansett, RI 02882; and Kings Park, NY at 123 Kings Park Blvd., Nissequogue River Park, Kings Park, NY 11754. Additional information and webinar connection details for all hearings are available at https://www.mafmc.org/newsfeed/2025/recreational-sector-separation-and-data-collection-scoping.

Council address: Mid-Atlantic Fishery Management Council, 800 N State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Council and Commission are considering development of an amendment to the Summer Flounder, Scup, and Black Sea Bass and Bluefish FMPs. The purpose of the proposed amendment is to consider options for managing for-hire recreational fisheries separately from other recreational fishing modes (referred to as sector separation), as well as options related to the collection and use of recreational data, such as private angler reporting and enhanced for-hire vessel trip reporting requirements. The Council and Commission are currently conducting scoping for this action. Scoping is the first and best opportunity to provide input on the scope of issues to be addressed. There will be additional comment opportunities; however, input provided early in the development of this action will help the Council and Commission identify issues of concern and determine which types of management alternatives should be further developed.

The Public Information/Scoping Document is available on the action web page at: https://www.mafmc.org/actions/recreational-sector-separation-and-data-collection-amendment. This document provides a broad overview of the issues identified for consideration in the amendment, management approaches that may be considered, and a series of questions to guide public comment.

Scoping hearings will be hosted by states or groups of states. If you are unable to participate in your state's scheduled hearing, you are welcome to participate in any of the hearings. The hearing schedule is as follows and is also available at: https://www.mafmc.org/newsfeed/2025/recreational-sector-separation-and-data-collection-scoping.

• Tuesday, February 25, 2025, 6-8 p.m., New Jersey Dept of Environmental Protection. Webinar Only Hearing—Webinar Registration at: https://attendee.gotowebinar.com/rt/3741827630312556894.

• Wednesday, February 26, 2025, 6-8 p.m., New York State Dept. of Environmental Conservation and Connecticut Dept. of Energy & Environmental Protection. Hybrid Hearing—Webinar Registration at: https://attendee.gotowebinar.com/rt/3741827630312556894.

• In-Person Location: Marine Resources Headquarters, New York State Dept. of Environmental Conservation. 123 Kings Park Blvd., Nissequogue River Park, Kings Park, NY 11754.

• Thursday, February 27, 2025, 6-8 p.m., Rhode Island Dept. of Environmental Management. Hybrid Hearing—Webinar Registration at: https://us02web.zoom.us/meeting/register/g4Uc1YYMQMKmQ_WHoeeQRA.

• In person Location: University of Rhode Island Bay Campus, Corless Auditorium. 215 South Ferry Road, Narragansett, RI 02882.

• Tuesday, March 4, 2025, 6-8 p.m., Delaware Division of fish and Wildlife, Maryland Dept. of Natural Resources, Potomac River Fisheries Commission, Virginia Marine Resources Commission, North Carolina Dept. Of Environmental Quality. Webinar Only Hearing—Webinar Registration at: https://attendee.gotowebinar.com/rt/3741827630312556894.

• Wednesday, March 5, 2025, 6-8 p.m., Maine Dept of Marine Resources, New Hampshire Fish and Game Department, and Massachusetts Division of Marine Fisheries. Webinar Only Hearing—Webinar Registration at: https://attendee.gotowebinar.com/rt/3741827630312556894.

In addition to the comment opportunity provided by the scoping hearings, the Council and Commission are accepting written scoping comments. Written comments will be accepted through 11:59 p.m. EST on Thursday, March 20, 2025 by any of the following methods:

1. Online at https://mafmc.knack.com/public-comments#rec-sector-separation-data-collection/.

2. Email to kdancy@mafmc.org (subject: Recreational Sector Separation and Data Collection)

3. Mail to: Dr. Christopher Moore, Executive Director, Mid-Atlantic Fishery Management Council, 800 North State Street, Suite 201, Dover, DE 19901. (Please write “Recreational Sector Separation and Data Collection” on the envelope).

All comments, regardless of submission method, will be compiled into a single document for review and consideration by both the Council and Commission.

Special Accommodations

The meetings are physically accessible to people with disabilities. Requests for sign language interpretation or other auxiliary aids should be directed to Shelley Spedden at the Council Office, (302) 526-5251, at least 5 days prior to the meeting date.

Authority: 16 U.S.C. 1801 et seq.

Dated: February 11, 2025.
Rey Israel Marquez,
Acting Deputy Director, Office of Sustainable Fisheries, National Marine Fisheries Service.

[FR Doc. 2025-02667 Filed 2-13-25; 8:45 am]

BILLING CODE 3510-22-P